ENVIRONMENTAL PROTECTION AGENCY

[FRL-6850-8]

Notice of Approval of the Commonwealth of Pennsylvania's Submission Pursuant to Section 118 of the Clean Water Act and the Water Quality Guidance for the Great Lakes System

AGENCY: Environmental Protection Agency (EPA).

ACTION: Notice.

SUMMARY: Notice is hereby given of approval of the Commonwealth of Pennsylvania's submission of criteria, methodologies, policies and procedures for the Great Lakes System pursuant to Section 118(c) of the Clean Water Act.

DATES: EPA's approval is effective on August 14, 2000.

FOR FURTHER INFORMATION CONTACT: Evelyn S. MacKnight, Chief, PA/DE Branch (3WP11), Office of Watersheds, Water Protection Division, U.S. Environmental Protection Agency, Region 3, 1650 Arch Street, Philadelphia, Pennsylvania 19103, or telephone her at (215) 814-5717.

Copies of a letter from EPA to the Commonwealth of Pennsylvania explaining EPA's decision are available upon request by contacting Ms. MacKnight. This letter and other related materials submitted by the Commonwealth in support of their submission and considered by EPA in its decision are available for review by appointment at: EPA, Region 3, 1650 Arch Street, Philadelphia, Pennsylvania (telephone 215-814-5452. To access the docket material, call Larry Merrill at telephone 215-814-5452 between 8 a.m. and 4:30 p.m. (Eastern time) (Monday-Friday).

SUPPLEMENTARY INFORMATION: On March 23, 1995, EPA published the Final Water Quality Guidance for the Great Lakes System (Guidance) pursuant to section 118(c)(2) of the Clean Water Act, 33 U.S.C. 1268(c)(2). (March 23, 1995, 60 FR 15366). The Guidance, which was codified at 40 CFR part 132, requires the Great Lakes States to adopt and submit to EPA for approval water quality criteria, methodologies, policies and procedures that are consistent with the Guidance. 40 CFR part 132.4 & 132.5. EPA is required to approve of the State's submission within 90 days or notify the State that EPA has determined that all or part of the submission is inconsistent with the Clean Water Act or the Guidance and identify any necessary changes to obtain EPA approval. If the State fails to make the necessary changes within 90 days, EPA must publish a notice in the Federal Register identifying the approved and disapproved elements of the submission and a final rule identifying the provisions of part 132 that shall apply for discharges within the State.

EPA received the submission from Pennsylvania and reviewed it for consistency with the Guidance in accordance with 40 CFR part 131 and 132.5. On April 14, 1998, EPA published in the Federal Register a notice pursuant to 40 CFR 132.5(e) which solicited comment on the substantial National Pollutant Discharge Elimination System (NPDES) program modification component of Pennsylvania's submission. (63 FR 18195). On December 18, 1998, in a letter from EPA Region 3 to the Pennsylvania Department of Environmental Protection, EPA described in detail those provisions in Pennsylvania's submission determined to be inconsistent with the Guidance and subject to disapproval if not remedied by the Commonwealth. On January 14, 1999, EPA published in the Federal Register a Notice of Availability of the letter, and invited public comment on the findings in the letter. (64 FR 2490). In a letter dated March 17, 1999, and in subsequent submittals, Pennsylvania addressed all the inconsistencies identified in EPA's December 18, 1998 letter and EPA has determined that the entirety of the Commonwealth's submission is consistent with 40 CFR part 132. Pennsylvania's submission consists of standards, methodologies, policies and procedures adopted in accordance with the following provisions of the Guidance: the definitions in 40 CFR 132.2; the water quality criteria for the protection of aquatic life, human health and wildlife in tables 1-4 of part 132; the methodologies for development of aquatic life criteria and values, bioaccumulation factors, human health criteria and values and wildlife criteria in Appendices B-D of part 132; the antidegradation policy in Appendix E of part 132; and the implementation procedures in Appendix F of part 132. EPA approves these elements pursuant to 40 CFR 132.5.

Today's final action only addresses the provisions adopted by Pennsylvania to comply with section 118(c)(2) of the Clean Water Act and 40 CFR part 132. EPA is taking no action at this time with respect to other revisions Pennsylvania may have made to its NPDES program or water quality standards in areas not addressed by the Guidance or applicable outside of the Great Lakes System.

Thomas C. Voltaggio,
Acting Regional Administrator, Region III.

[FR Doc. 00-20606 Filed 8-11-00; 8:45 am]

BILLING CODE 6560-50-P